DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 29, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Pandemic Electronic Benefit Transfer (P-EBT).

OMB Control Number: 0584-0660.

Summary of Collection: This is a revision of the currently approved information collection for activities related to the Pandemic Electronic Benefit Transfer (P-EBT). The P-EBT is part of the U.S. Government response to the COVID-19 pandemic. The Families First Coronavirus Response Act of 2020 (as amended by the Consolidated Appropriations Act 2021 the American Rescue Plan Act of 2021, and the Consolidated Appropriations Act 2023 provides the Secretary of Agriculture authority to administer, through State agencies, the PEBT programs.

States are required to submit an operational plan to FNS Regional Office for approval. With the expiration of the COVID-19 public health emergency (PHE) on May 11, 2023, States will not receive approval for operational plans submitted after Federal fiscal year (FY) 2023 (i.e., September 30, 2023), although States may issue some benefits retroactively to households after September 30, 2023, based on prior plan approvals. However, FNS proposes an extension for limited elements of the currently approved information collection to facilitate the orderly wind-down and close-out of the P-EBT program.

Need and Use of the Information: This information collection is necessary to determine eligibility and benefit levels for P-EBT. The information collected will used to determine the benefit levels children are eligible to receive, which will vary depending on the FY of the approved plan. Additionally, during the summer months all children eligible for free or reduced price meals that are enrolled in schools that participate in the National School Lunch Program are considered eligible for P-EBT. This requires all schools to provide the State agency with a list of children who have been determined eligible for free and reduced price meals.

FNS will provide funding to each State's SNAP State agency for 100% of P-EBT-related school level administrative costs. Such funding will be available for the necessary, allowable, and reasonable State agency costs associated with the administration of P-EBT incurred during FY 2020-2023. In order to receive this funding, schools must report to their State agency on the school level costs incurred to administer P-EBT.

Description of Respondents: State agencies, private sector (business-not-for profit), individuals and households.

Number of Respondents: 114,337.

Frequency of Responses: Annually.

Total Burden Hours: 20,087.

Ruth Brown,
Departmental Information Collection Clearance Officer.

[FR Doc. 2023-26219 Filed 11-28-23; 8:45 am]

BILLING CODE 3410-30-P